DEPARTMENT OF HEALTH AND HUMAN SERVICES

Indian Health Service

Notification of a Public Teleconference on American Indian/Alaska Native Lesbian, Gay, Bisexual, Transgender and Two-Spirit Health Issues

AGENCY: Indian Health Service.

ACTION: Notice of meeting.

SUMMARY: In 2015, the Indian Health Service (IHS) sought public input in writing and in person through a Notice of Request for Information (80 FR 32167) and two meetings in the Washington, DC area to gather feedback on best practices to advance and promote the health needs of the American Indian/Alaska Native (AI/AN) Lesbian, Gay, Bisexual, Transgender and Two-Spirit (LGBT2S) community (80 FR 43447 and 80 FR 51824). IHS is continuing to seek feedback from the LGBT2S community by holding a series of public teleconferences. In these teleconferences, participants will be asked to comment on several key dimensions of the health needs of the AI/AN LGBT2S community, including but not limited to the following questions:

a. Are there effective models and best practices surrounding the health care of the LGBT2S community that should be considered for replication?

b. What are the specific measures that could be used to track progress in improving the health of LGBT2S persons?

c. How can IHS better engage with stakeholders around the implementation of improvements?

d. Are there gaps or disparities in existing IHS services offered to LGBT2S persons?

e. What additional information should the agency consider while developing plans to improve health care for the LGBT2S community?

DATES: The first public teleconference will be held on May 5, 2016 from 3:00 p.m. to 5:00 p.m. (Eastern Standard Time).

ADDRESSES: The teleconference will be conducted by telephone only. Please see SUPPLEMENTARY INFORMATION for the call-in information.

FOR FURTHER INFORMATION CONTACT: Members of the public who wish to obtain further information regarding this public teleconference may contact Lisa Neel, MPH, Program Coordinator, Office of Clinical and Preventive Services, Indian Health Service, 5600 Fishers Lane, Mailstop 08N34A, Rockville, MD 20857, Telephone 301-443-4305. (This is not a toll-free number.)

SUPPLEMENTARY INFORMATION: This meeting is open to the public. The virtual meeting is available via teleconference line and will accommodate 200 people. Join the meeting by calling the toll free phone number at 800-857-9744 and providing the public participant passcode number: 3618057. Participants should call and connect 15 minutes prior to the meeting in order for logistics to be set up. Call 301-443-4305 or send an email to lisa.neel@ihs.gov with questions. Individuals who plan to attend and need special assistance, such as sign language interpretation or other reasonable accommodations, should notify the contact person listed below at least 10 days prior to the meeting. Members of the public may make statements during the teleconference to the extent time permits and file written statements with the agency for its consideration. In general, individuals or groups requesting to present an oral statement at a public teleconference will be limited to three minutes per speaker. Written statements should be submitted to Lisa Neel, MPH, Program Coordinator, Office of Clinical and Preventive Services, Indian Health Service, 5600 Fishers Lane, Mailstop 08N34A, Rockville, MD 20857.

Dated: March 25, 2016.
Elizabeth A. Fowler,
Deputy Director for Management Operations, Indian Health Service.

[FR Doc. 2016-07952 Filed 4-6-16; 8:45 am]

BILLING CODE 4165-16-P